DEPARTMENT OF THE INTERIOR

National Park Service

National Register of Historic Places; Weekly Listing of Historic Properties

Pursuant to 36 CFR 60.13(b) and (c) and 36 CFR 63.5, this notice, through publication of the information included herein, is to apprise the public as well as governmental agencies, associations and all other organizations and individuals interested in historic preservation, of the properties added to, or determined eligible for listing in, the National Register of Historic Places from October 26 to October 30.

For further information, please contact Edson Beall via: United States Postal Service mail, at the National Register of Historic Places, 2280, National Park Service, 1849 C St., NW., Washington, DC 20240; in person (by appointment), 1201 Eye St., NW., 8th Floor, Washington, DC 20005; by fax, 202-371-2229; by phone, 202-354-2255; or by e-mail, Edson_Beall@nps.gov.

Dated: January 13, 2010.
J. Paul Loether,
Chief, National Register of Historic Places/National Historic Landmarks Program.

KEY: State, County, Property Name, Address/Boundary, City, Vicinity, Reference Number, Action, Date, Multiple Name

COLORADO

Delta County

Hotchkiss Methodist Episcopal Church, 285 N. 2nd St., Hotchkiss, 09000853, LISTED, 10/28/09

Weld County

Land Utilization Program Headquarters, 44741 Weld Co. Rd. 77, Briggsdale Vicinity, 09000854, LISTED, 10/29/09 (New Deal Resources on Colorado's Eastern Plains MPS)

CONNECTICUT

New London County

House at 130 Mohegan Avenue, 130 Mohegan Ave., New London, 08001379, LISTED, 10/28/09

MISSOURI

Clay County

First Methodist Church, 114 N. Marietta St., Excelsior Springs, 09000856, LISTED, 10/28/09

Dunklin County

Birthright, Charles and Bettie, House, 109 S. Main St., Clarkton, 09000857, LISTED, 10/30/09

St. Louis County

Downtown Kirkwood Historic District, 105-133 E. Argonne, 100-159 W. Argonne, 108-212 N. Clay, 105-140 E. Jefferson, 100-161 W. Jefferson, Kirkwood, 09000859, LISTED, 10/28/09

NEW YORK

Queens County

Rego Park Jewish Center, 97-30 Queens Blvd., Rego Park, 09000864, LISTED, 10/28/09

OREGON

Wallowa County

Wallowa Ranger Station, 602 W. 1st St., Wallowa, 09000865, LISTED, 10/28/09 (Depression-Era Buildings TR)

TEXAS

Harris County

Farnsworth & Chambers Building, 2999 S. Wayside, Houston, 09000866, LISTED, 10/29/09

[FR Doc. 2010-905 Filed 1-19-10; 8:45 am]

BILLING CODE P